DEPARTMENT OF TRANSPORTATION

Federal Railroad Administration

[Docket Number FRA-2013-0129]

Petition for Waiver of Compliance

In accordance with Part 211 of Title 49 Code of Federal Regulations (CFR), this document provides the public notice that by a document dated September 13, 2013, the Union Pacific Railroad (UP) petitioned the Federal Railroad Administration (FRA) for a waiver of compliance from certain provisions of the Federal railroad safety regulations contained at 49 CFR part 236, Rules, Standards, and Instructions Governing the Installation, Inspection, Maintenance, and Repair of Signal and Train Control Systems, Devices, and Appliances. FRA assigned the petition Docket Number FRA-2013-0129.

UP seeks a waiver from compliance with the cab signal system requirements found in 49 CFR 236.566, Locomotive of each train operating in train stop, train control, or cab signal territory; equipped. Specifically, UP seeks relief to operate: Non-equipped engines used in switching and transfer service, with or without cars; work trains; wreck trains; ballast cleaners to and from work; and engines and rail diesel cars moving to and from shops at the following locations:

1. Operations on the Chicago Service Unit, Geneva Subdivision, from Control Point (CP) Y901 and Kedzie may be made in accordance with signal indication and at restricted speed:

• With engines not equipped with automatic train control (ATC) with or without cars; or,

• To and from the CP Y901 with the ATC cut out and back-up moves; or,

• With the ATC cut out due to failure.

2. Operations on the Chicago Service Unit, Geneva Subdivision, from Kedzie and Park CP Y015, engines not equipped with ATC and foreign crews operating UP trains may be operated at a speed not exceeding 40 mph when a block signal displays an indication more favorable than Approach. An Approach or more favorable indication establishes an absolute block to the next block signal. If block signal displays a Stop, Restricted Proceed, or Restricting indication, the train must stop and not proceed until authorized by the train dispatcher. However, the train may pass a signal indicating Restricting to leave the main track immediately past the signal.

3. Operations on the Chicago Service Unit, Geneva Subdivision, non-equipped engines in switching service may be operated on the main track between CP Y901 and Elmhurst; between Dixon and Nelson; between Nelson and Sterling; between East Clinton and Clinton; and at West Chicago, De Kalb, Dixon, Nelson, Sterling, and Clinton within switching limits, in accordance with signal indication, not exceeding restricted speed.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 7, 2014 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/#!privacy.html.

Issued in Washington, DC.
Robert C. Lauby,
Associate Administrator for Railroad Safety, Chief Safety Officer.

[FR Doc. 2013-30536 Filed 12-23-13; 8:45 am]

BILLING CODE 4910-06-P